INTERNATIONAL TRADE COMMISSION

[Inv. No. 337-TA-475]

Certain Electronic Educational Devices and Components Thereof; Notice of Commission Decision Not To Review an Initial Determination Granting Complainant Franklin Electronic Publishers, Inc.'s Motion for Leave To Withdraw the Complaint and for Termination of the Investigation

AGENCY: International Trade Commission.

ACTION: Notice.

SUMMARY: Notice is hereby given that the U.S. International Trade Commission has determined not to review an initial determination (“ID”) issued by the presiding administrative law judge (ALJ) in the above-captioned investigation granting complainant Franklin Electronic Publisher, Inc.'s motion for leave to withdraw its amended complaint and for termination of investigation as to all respondents.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on August 9, 2002, based on a complaint filed by Franklin Electronic Publishers, Inc. of Burlington, New Jersey (“Franklin”), against LeapFrog Enterprises, Inc. of Emeryville, California, and Jetta Company Ltd. of Fanling, N.T., Hong Kong. 67 FR 51686 (Aug. 2002). The complaint alleges violations of section 337 of the Tariff Act of 1930 in the importation and sale of certain electronic educational devices and components thereof by reason of infringement of claims 1-4 of U.S. Patent No. 5,203,705. On November 5, 2002, Franklin filed an unopposed motion for leave to withdraw its complaint and terminate the investigation. On November 12, 2002, the Commission investigative attorney filed a response in support of Franklin's motion.

On November 14, 2002, ALJ issued an ID granting Franklin's motion. No party filed a petition for review of the ALJ's ID. The authority for the Commission's determination is contained in section 337 of the Tariff Act of 1930, as amended (19 U.S.C. 1337), and in section 210.42 of the Commission's rules of practice and procedure (19 CFR 210.42).

Issued: December 6, 2002.
By order of the Commission.
Marilyn R. Abbott,
Secretary to the Commission.

[FR Doc. 02-31309 Filed 12-11-02; 8:45 am]

BILLING CODE 7020-02-P